DEPARTMENT OF ENERGY

Federal Energy Regulatory Commission

[Docket No. CP20-455-001]

Freeport LNG Development, L.P., FLNG Liquefaction, LLC, FLNG Liquefaction 2, LLC, and FLNG Liquefaction 3, LLC; Notice of Request for Extension of Time

Take notice that on August 8, 2024, Freeport LNG Development, L.P., FLNG Liquefaction, LLC, FLNG Liquefaction 2, LLC, and FLNG Liquefaction 3, LLC (together, Freeport LNG) requested that the Commission grant an extension of time, until March 21, 2025, to construct and place into service its Noble Gas Project (Project) located in Brazoria County, Texas as authorized in the Order Granting Authorization Under Section 3 of the Natural Gas Act issued on June 21, 2021 (Order).¹ The Order required Freeport LNG to complete construction of the Project and make it available for service within three years of the date of the Order, or by June 21, 2024.

¹ Freeport LNG Development, L.P., FLNG Liquefaction, LLC, FLNG Liquefaction 2, LLC & FLNG Liquefaction 3, LLC, 175 FERC ¶ 61,237 (2021).

Freeport LNG states that the only jurisdictional construction activity of the Project that remains to be completed is the ongoing Phase 3 firewater work. Freeport LNG explains that it has not been able to complete and place the Project in-service by the deadline due to third-party delays with the non-jurisdictional Helium Plant, which is being constructed by Linde Global Helium (Linde) and is outside of Freeport LNG's control.² Freeport LNG reiterates that its final work on the jurisdictional facilities cannot be completed until the Helium Plant is ready to receive the boil-off gas from Freeport LNG. Therefore, Freeport LNG requests a nine-month extension of time to construct and place its Project in-service by no later than March 21, 2025.

² Freeport LNG states that Linde's progress has been affected by the market availability of certain equipment, having to make engineering changes based on newly received data, and Hurricane Beryl. Additionally, Linde has indicated that it anticipates placing the non-jurisdictional facilities in-service by the end of 2024.

This notice establishes a 15-calendar day intervention and comment period deadline. Any person wishing to comment on Freeport LNG's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (NGA) (18 CFR 157.10).

As a matter of practice, the Commission itself generally acts on requests for extensions of time to complete construction for NGA facilities when such requests are contested before order issuance. For those extension requests that are contested,³ the Commission will aim to issue an order acting on the request within 45 days.⁴ The Commission will address all arguments relating to whether the applicant has demonstrated there is good cause to grant the extension.⁵ The Commission will not consider arguments that re-litigate the issuance of the certificate order, including whether the Commission properly found the project to be in the public convenience and necessity and whether the Commission's environmental analysis for the certificate complied with the National Environmental Policy Act (NEPA).⁶ At the time a pipeline requests an extension of time, orders on certificates of public convenience and necessity are final and the Commission will not re-litigate their issuance.⁷ The Director of the Office of Energy Projects, or his or her designee, will act on all of those extension requests that are uncontested.

³ Contested proceedings are those where an intervenor disputes any material issue of the filing. 18 CFR 385.2201(c)(1).

⁴ Algonquin Gas Transmission, LLC, 170 FERC ¶ 61,144, at P 40 (2020).

⁵ Id. at P 40.

⁶ Similarly, the Commission will not re-litigate the issuance of an NGA section 3 authorization, including whether a proposed project is not inconsistent with the public interest and whether the Commission's environmental analysis for the permit order complied with NEPA.

⁷ Algonquin Gas Transmission, LLC, 170 FERC ¶ 61,144, at P 40 (2020).

In addition to publishing the full text of this document in the Federal Register, the Commission provides all interested persons an opportunity to view and/or print the contents of this document via the internet through the Commission's Home Page (http://www.ferc.gov). From the Commission's Home Page on the internet, this information is available on eLibrary. The full text of this document is available on eLibrary in PDF and Microsoft Word format for viewing, printing, and/or downloading. To access this document in eLibrary, type the docket number excluding the last three digits of this document in the docket number field.

User assistance is available for eLibrary and the Commission's website during normal business hours from FERC Online Support at (202) 502-6652 (toll free at 1-866-208-3676) or email at ferconlinesupport@ferc.gov, or the Public Reference Room at (202) 502-8371, TTY (202) 502-8659. Email the Public Reference Room at public.referenceroom@ferc.gov.

The Commission strongly encourages electronic filings of comments in lieu of paper using the “eFile” link at http://www.ferc.gov. In lieu of electronic filing, you may submit a paper copy which must reference the Project docket number.

To file via USPS: Debbie-Anne A. Reese, Acting Secretary, Federal Energy Regulatory Commission, 888 First Street NE, Washington, DC 20426

To file via any other courier: Debbie-Anne A. Reese, Acting Secretary, Federal Energy Regulatory Commission, 12225 Wilkins Avenue, Rockville, Maryland 20852

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Comment Date: 5:00 p.m. Eastern Time on August 30, 2024.

Dated: August 15, 2024.
Debbie-Anne A. Reese,
Acting Secretary.

[FR Doc. 2024-18728 Filed 8-20-24; 8:45 am]

BILLING CODE 6717-01-P